FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 28, 2001.

A. Federal Reserve Bank of Minneapolis (JoAnne F. Lewellen, Assistant Vice President) 90 Hennepin Avenue, Minneapolis, Minnesota 55480-0291:

1. Karlton Conrad Adam, Pierre, South Dakota; to acquire voting shares of Blunt Bank Holding Company, Blunt, South Dakota, and thereby indirectly acquire voting shares of Dakota State Bank of Blunt, Blunt, South Dakota.

B. Federal Reserve Bank of Dallas (W. Arthur Tribble, Vice President) 2200 North Pearl Street, Dallas, Texas 75201-2272:

1. Eugene A. Ludwig, Washington, D.C., and Evan G. Galbraith, New York, New York; to act as voting trustees, and acquire voting shares of Laredo National Bancshares, Inc., Laredo, Texas, and thereby indirectly acquire voting shares of Laredo National Bank, Laredo, Texas, and South Texas National Bank, Laredo, Texas.

Board of Governors of the Federal Reserve System, August 8, 2001.
Robert deV. Frierson,
Deputy Secretary of the Board.

[FR Doc. 01-20286 Filed 8-10-01; 8:45 am]

BILLING CODE 6210-01-S